DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The Federal Emergency Management Agency (FEMA) National Advisory Council (NAC) will meet in person on October 16, 2013 in Philadelphia, PA. The meeting will be open to the public.

DATES: The NAC will meet on Wednesday, October 16, 2013, from 8:30 a.m. to 5:00 p.m. Eastern Daylight Time (EDT). Please note that the meeting may close early if the committee has completed its business.

ADDRESSES: The meeting will be held at the FEMA Region III Office located at 615 Chestnut Street, Philadelphia, PA 19106. All visitors to the FEMA Region III Office will have to register with FEMA to be admitted to the building. Photo identification is required to access the building. Please provide your name, telephone number, email address, title, and organization by close of business on October 11, 2013, to the contact person listed in FOR FURTHER INFORMATION CONTACT below.

For information on facilities or services for individuals with disabilities or to request special assistance at the meeting, contact the person listed in FOR FURTHER INFORMATION CONTACT below as soon as possible.

To facilitate public participation, members of the public are invited to provide written comments on the issues to be considered by the NAC (see “Agenda”). Written comments must be submitted and received by October 10, 2013, identified by Docket ID FEMA-2007-0008, and submitted by one of the following methods:

• Federal eRulemaking Portal: http://www.regulations.gov. Follow the instructions for submitting comments.

• Email: FEMA-NAC@fema.dhs.gov. Include the docket number in the subject line of the message.

• Fax: (540) 504-2331.

• Mail: Regulatory Affairs Division, Office of Chief Counsel, FEMA, 500 C Street SW., Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held during the meeting from 3:00 p.m. to 3:30 p.m. EDT, and speakers are requested to limit their comments to 3 minutes. Contact the individual listed below to register as a speaker by October 11, 2013. Please note that the public comment period may end before the time indicated, following the last call for comments.

FOR FURTHER INFORMATION CONTACT: Alexandra Woodruff, Alternate Designated Federal Officer, Office of the National Advisory Council, Federal Emergency Management Agency, 500 C Street SW., Washington, DC 20472-3100, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. App. (Pub. L. 92-463).

The NAC advises the FEMA Administrator on all aspects of emergency management. The NAC incorporates State, local, and tribal governments, nonprofit, and private sector input in the development and revision of FEMA plans and strategies.

Agenda: In addition to swearing in new members, the NAC will engage in open discussion with the FEMA Administrator and Deputy Administrator. The NAC will receive report outs from its subcommittees on the following topics: Review and update of the National Incident Management System (NIMS); Public Assistance Pilot Programs of Debris Removal and Permanent Work; National Mass Care Strategy; and the Biggert-Waters Flood Insurance Reform Act of 2012. The NAC will review the information presented on each topic, deliberate on any recommendations presented in the subcommittees' reports, and formulate recommendations for FEMA's consideration.

The NAC will also receive briefings from FEMA Executive Staff on the following topics: Implementation of the National Preparedness System; the Preparedness Campaign; the National Preparedness Grant Program; the FEMA Strategic Plan; and the Integrated Public Alert and Warning System. The full agenda and any related committee documents will be posted on the NAC Web site at http://www.fema.gov/national-advisory-council.

Dated: September 23, 2013.
W. Craig Fugate,
Administrator, Federal Emergency Management Agency.

[FR Doc. 2013-23840 Filed 9-30-13; 8:45 am]

BILLING CODE 9111-48-P